DEPARTMENT OF TRANSPORTATION

Federal Aviation Administration

14 CFR Part 135

[Docket No. 28293; Amendment No. 135-78]

RIN 2120-AF71

Service Difficulty Reports

AGENCY: Federal Aviation Administration, DOT.

ACTION: Final rule; technical amendment.

SUMMARY: The Federal Aviation Administration (FAA) is making minor technical changes to a final rule published in the Federal Register on September 15, 2000 (65 FR 56192). That final rule amends the reporting requirements for air carriers and certificated domestic and foreign repair station operators concerning failures malfunctions, and defects of aircraft engines, systems, and components. In that final rule the FAA neglected to make conforming amendments to sections not amended by the final rule.

EFFECTIVE DATES: Effective on January 16, 2001.

FOR FURTHER INFORMATION CONTACT: Jose E. Figueroa, AFS-300, Flight Standards Service, Federal Aviation Administration, 800 Independence Ave., Washington, DC 20591, telephone (703) 661-0522.

SUPPLEMENTARY INFORMATION: The Federal Aviation Administration (FAA) published in the Federal Register of September 15, 2000 (65 FR 56192) a document that amended the regulations on reporting service difficulties. The FAA neglected to include a revision to 14 CFR 135.411 to clearly address the applicability of one newly adopted section to part 135 operations. When the provisions of § 135.415 were expanded into revised § 135.415 and new § 135.416, the appropriate changes to § 135.411 were not made to reflect the existence of the new § 135.416. The only change in this amendment is to add a reference to new § 135.416 to existing § 135.411 in two places. This document makes the appropriate amendatory change to clearly reflect that new § 135.416 as well as current §§ 134.415 and 135.417 apply to all operations under part 135. This amendment will not impose any additional restrictions on operators affected by these regulations.

Technical Amendment

The technical amendment will correct the omission of § 135.416 from the applicability paragraphs of § 135.411.

List of Subjects in 14 CFR Part 135

Air taxis, Aircraft, Aviation safety, Reporting and recordkeeping requirements.

Accordingly, Title 14 of the Code of Federal Regulations (CFR) part 135 is amended as follows:

PART 135—OPERATING REQUIREMENTS: COMMUTER AND ON-DEMAND OPERATIONS AND RULES GOVERNING PERSONS ON BOARD SUCH AIRCRAFT

1. The authority citation of part 135 continues to read as follows:

Authority: 49 U.S.C. 106(g), 40113, 44701-44702, 44705, 44709, 44711-44713, 44715-44717, 44722.

2. Amend § 135.411 by revising the first sentence of paragraph (a)(1) and paragraph (a)(2) to read as follows:

§ 135.411 Applicability.

(a) * * *

(1) Aircraft that are type certificated for a passenger seating configuration, excluding any pilot seat, of nine seats or less, shall be maintained under parts 91 and 43 of this chapter and §§ 135.415, 135.416, 135.417, and 135.421. * * *

(2) Aircraft that are type certificated for a passenger seating configuration, excluding any pilot seat, of ten seats or more, shall be maintained under a maintenance program in §§ 135.415. 135.416. 135.417, and 135.423 through 135.443.

* * * * *

Issued in Washington, DC on October 3, 2000.
Donald P. Byrne,
Assistant Chief Counsel for Regulations.

[FR Doc. 00-25951 Filed 10-10-00; 8:45 am]

BILLING CODE 4910-13-M